DEPARTMENT OF ENERGY

Federal Energy Regulatory Commission

[Project No. 13272-001]

Alaska Village Electric Cooperative; Notice of Environmental Site Review and Scoping Meeting

July 15, 2010.

a. Project No.: 13272-001.

b. Name of Project: Old Harbor Hydroelectric Project.

c. Location: On Mountain Creek, near the town of Old Harbor, Kodiak Island Borough, Alaska.

d. Potential Applicant Contact: Brent Petrie, Alaska Village Electric Cooperative, 4831 Eagle Street, Anchorage, Alaska 99503-7497, (907) 565-5358 or e-mail at bpetrie@avec.org.

e. FERC Contact: Carolyn Templeton at (202) 502-8785 or e-mail at carolyn.templeton@ferc.gov.

f. Project History

On August 24, 2009, Alaska Village Electric Cooperative (AVEC) filed a Pre-Application Document (PAD) with the Commission, pursuant to 18 CFR 5.6 of the Commission's regulations. The PAD described the proposed project location, facilities, and operations and included information on the existing environment and any known and potential impacts of the proposed project on specified resources. The Commission issued Scoping Documents 1 ¹ and 2 on September 9, 2009 and January 4, 2010, respectively, which outlined the subject areas to be addressed in the Commission's environmental document. On January 4, 2010 and May 5, 2010, AVEC filed, with the Commission, their proposed ² and revised study plans, respectively. The plans outlined studies that would be necessary to evaluate the effects of project construction and operation and identified specific measures to mitigate project impacts. On June 4, 2010, the Director of the Office of Energy Projects issued his study plan determination which approved, with modifications, AVEC's revised study plan.

¹ Upon issuance of Scoping Document 1, a 60-day comment period was open for all interested individuals, organizations, and agencies to provide comments on the PAD and Scoping Document 1, as well as study requests. Comments received were then incorporated, if applicable, into the Commission's Scoping Document 2.

² Following the filing of AVEC's proposed study plan, a 90-day comment period was open for all interested individuals, organizations, and agencies to provide comments on AVEC's proposed study plan. Comments received were then incorporated, if applicable, into AVEC's revised study plan.

g. On Thursday, October 22, 2009, Commission staff conducted a daytime scoping meeting for the proposed Old Harbor Hydroelectric Project at AVEC's office in Anchorage, Alaska. Due to inclement weather conditions, the environmental site review and evening scoping meeting that was scheduled for Wednesday, October 21, 2009 in Old Harbor, Alaska was cancelled. Therefore, Commission staff will conduct an environmental site review and scoping meeting on Tuesday, August 17, 2010 and are inviting all interested individuals, organizations, and agencies to attend one or both of these events, and to assist staff in identifying the scope of environmental issues to be addressed in the environmental document. The details of the environmental site review and evening scoping meeting are as follows:

Environmental Site Review

AVEC and Commission staff will conduct an environmental site review of the project area on Tuesday, August 17, 2010, beginning at 1:00 p.m. at the Old Harbor Native Corporation office. Those wishing to participate should contact Robin Reich by August 6, 2010 [e-mail, robin@solsticeak.com or phone, (907) 929-5960] for details on how to participate. The environmental site review will include an all-terrain vehicle ride to the proposed project intake and other features. Proper footwear and gear is strongly recommended.

Evening Scoping Meeting

Date: Tuesday, August 17, 2010.

Time: 6 p.m.

Location: Old Harbor Native Corporation Office Building, 12 Elderberry Drive, Old Harbor, Alaska 99643.

Phone: (907) 286-2286.

Scoping Meeting Objectives

Scoping meeting participants should come prepared to discuss their issues and/or concerns with the proposed Old Harbor Hydroelectric Project. Please review the PAD, Scoping Documents 1 and 2, AVEC's proposed and revised study plans, and the Commission's study plan determination in preparation for the scoping meeting. These documents, as well as other documents pertaining to the record for this proceeding, may be viewed on the Web at http://www.ferc.gov, using the “Documents & Filings” link followed by the “eLibrary” link. After clicking on the “General Search” link, select “All” for the “Date Range” and type the project number, P-13272, into the “Docket Number” box.

Kimberly D. Bose,
Secretary.

[FR Doc. 2010-17883 Filed 7-21-10; 8:45 am]

BILLING CODE 6717-01-P